DEPARTMENT OF HEALTH AND HUMAN SERVICES

National Institutes of Health

Eunice Kennedy Shriver National Institute of Child Health & Human Development; Amended Notice of Meeting

Notice is hereby given of a change in the meeting of the National Advisory Child Health and Human Development Council, September 09, 2025, 09:30 a.m. to September 10, 2025, 05:00 p.m., National Institutes of Health, Natcher Building, 45 Center Drive, Bethesda, MD 20892 which was published in the Federal Register on June 13, 2025, 90 FR 25059.

The following FRN required meeting link attachment. The meeting is partially closed to the public.

Dated: June 24, 2025.
Bruce A. George,
Program Analyst, Office of Federal Advisory Committee Policy.

[FR Doc. 2025-11776 Filed 6-25-25; 8:45 am]

BILLING CODE 4140-01-P